DEPARTMENT OF ENERGY

Western Area Power Administration

Notice of Floodplain/Wetlands Involvement for the Boyd-Valley 115-kV Transmission Line Rebuild and Upgrade Project

AGENCY: Western Area Power Administration, DOE.

ACTION: Notice of floodplain/wetlands involvement.

SUMMARY: Western Area Power Administration (Western), a power marketing agency of the U.S. Department of Energy (DOE), is the lead Federal agency for a rebuild and upgrade of 2 miles of Western's existing Boyd-Valley 115-kilovolt (kV) transmission line, which is connected to Platte River Power Authority's (PRPA) Boyd and Valley 115-kV substations. This project is located in Loveland, Colorado. PRPA plans to replace Western's existing H-frame wood pole, 115-kV single-circuit transmission line with two new circuits constructed on double-circuit single-pole steel structures. The rebuild and upgrade will use the same right-of-way as the existing transmission line. Based on the Federal Emergency Management Administration (FEMA) flood insurance maps, the project area is within the 100-year floodplain (base flood) for the Big Thompson River. Approximately 1 mile of the project right-of-way is located within the designated 100-year floodplain. In accordance with the DOE's floodplain/wetland review requirements (10 CFR 1022), Western will prepare a floodplain/wetlands assessment and will perform the proposed actions in a manner so as to avoid or minimize potential harm to or within the affected floodplain/wetlands.

DATES: Comments on the proposed floodplain/wetlands action are due to the address below no later than January 11, 2001.

ADDRESSES: Comments should be addressed to Mr. Jim Hartman, Environment Manager, Rocky Mountain Customer Service Region, Western Area Power Administration, P.O. Box 3700, Loveland, CO 80539-3003, fax (970) 461-7213, email hartman@wapa.gov.

FOR FURTHER INFORMATION CONTACT: Mr. Rodney Jones, Environmental Specialist, Rocky Mountain Customer Service Region, Western Area Power Administration, P.O. Box 3700, Loveland, CO 80539-3003, phone (970) 461-7371, email rjones@wapa.gov.

SUPPLEMENTARY INFORMATION: The proposal to rebuild and upgrade the Boyd-Valley transmission line would involve construction activities within the floodplain, including removal of 1 mile of the existing 115-kV wood pole H-frame transmission line and the construction of 1 mile of new double-circuit single-pole steel transmission line. The floodplain/wetlands assessment will examine the proposed rebuild and upgrade of the transmission line. The Boyd-Valley transmission line crosses the floodplain of the Big Thompson River in Larimer County, Colorado in T. 5N., R. 69W., Sections 23 and 24. Maps and further information are available from Western from the contact above.

Dated: December 14, 2000.
Michael S. Hacskaylo,
Administrator.

[FR Doc. 00-32928 Filed 12-26-00; 8:45 am]

BILLING CODE 6450-01-P